DEPARTMENT OF TRANSPORTATION

Federal Aviation Administration

14 CFR Part 71

[Docket No. FAA-2017-0438; Airspace Docket No. 17-AEA-5]

RIN 2120-AA66

Proposed Amendment VOR Federal Airways V-66, V-189, V-260, and V-266; in the Vicinity of Franklin, VA

AGENCY: Federal Aviation Administration (FAA) DOT.

ACTION: Notice of proposed rulemaking (NPRM); withdrawal.

SUMMARY: The FAA is withdrawing the NPRM published in the Federal Register on June 2, 2017, proposing to modify VHF Omnidirectional Range (VOR) Federal airways V-66, V-189, V-260, and V-266 in the Vicinity of Franklin, VA, due to the planned decommissioning of the Franklin, VA, (FKN) VOR and Tactical Air Navigational System (VORTAC) navigation aid. Subsequent to the NPRM, the FKN VORTAC decommissioning has been delayed until a to-be-determined date. The FAA decided that additional planning is necessary to ensure a more efficient implementation and integration with other ongoing VOR Minimum Operational Network (VOR MON) program activities, and determined that withdrawal of the proposed rule is warranted.

DATES: Effective October 22, 2021, the proposed rule published June 2, 2017 (82 FR 25559), is withdrawn.

FOR FURTHER INFORMATION CONTACT: Paul Gallant, Rules and Regulations Group, Office of Policy, Federal Aviation Administration, 800 Independence Avenue SW, Washington, DC 20591; telephone: (202) 267-8783.

SUPPLEMENTARY INFORMATION:

History

The FAA published a notice of proposed rulemaking in the Federal Register for Docket No. FAA-2017-0438 (82 FR 25559; June 2, 2017). The NPRM proposed to amend VOR Federal airways V-66, V-189, V-260, and V-266 due to the planned decommissioning of the FKN VORTAC which provides navigation guidance for portions of the affected airways. Interested parties were invited to participate in this rulemaking effort by submitting written comments on the proposal. One comment was received. The commenter recommended that, for VOR NAVAIDs that are to be decommissioned, and for those airways that are correspondingly removed, the FAA should create an area navigation (RNAV) waypoint at the previous NAVAID location, and convert all fixes and intersections along that route to RNAV waypoints.

FAA's Conclusions

The FAA has reviewed the FKN VORTAC decommissioning project and determined that additional planning meetings are warranted to ensure a more efficient implementation and integration with other ongoing program activities; therefore, the NPRM is withdrawn.

List of Subjects in 14 CFR Part 71

Airspace, Incorporation by reference, Navigation (air).

The Withdrawal

Accordingly, pursuant to the authority delegated to me, the NPRM published in the Federal Register on June 2, 2017 (82 FR 25559), FR Doc. 2017-11080, is hereby withdrawn.

Authority: 49 U.S.C. 106(f), 106(g), 40103, 40113, 40120; E.O. 10854; 24 FR 9565, 3 CFR, 1959-1963 Comp., p. 389.

Issued in Washington, DC, on October 14, 2021.
Michael R. Beckles,
Acting Manager, Rules and Regulations Group.

[FR Doc. 2021-22676 Filed 10-21-21; 8:45 am]

BILLING CODE 4910-13-P